DEPARTMENT OF HEALTH AND HUMAN SERVICES

Administration for Children and Families

Submission for OMB Review; Comment Request

Title: DHHS/ACF Employment Retention and Advancement (ERA) Evaluation 12-Month Survey.

OMB No.: New collection.

Description: The Employment Retention and Advancement (ERA) Evaluation is the most ambitious, comprehensive effort to learn what works in this area to date and is explicitly designed to build on past research by rigorously testing a wide variety of approaches to promoting employment retention and advancement for a range of populations. The project, conceived and sponsored by the Administration for Children and Families (ACF) of the U.S. Department of Health and Human Services (HHS), seeks to “conduct a multi-site evaluation that studies the net impact and cost-benefits of programs designed to help Temporary Assistance for Needy Families (TANF) recipients, former TANF recipients, or families at-risk of needing TANF benefits retain and advance in employment.” The ERA Evaluation involves up to 15 random assignment experiments in eight states, testing a diverse set of strategies designed to promote stable employment and/or career advancement for current and former welfare recipients and/or career advancement for current and former welfare recipients and other low-income parents. Over the next several years, the ERA project will generate a wealth of rigorous data on the implementation, effects, and costs of these alternative approaches. The data collected will be used for the following purposes:

• To study ERA's impacts on employment, earnings, participation, educational attainment and income;

• To collect data on a wider range of outcome measures than is available through welfare or UI records in order to understand how individuals were affected by ERA; job retention and job quality; educational attainment; interactions with an knowledge of the ERA program; household composition; income; and childcare, transportation, and health coverage;

• To supplement research on the implementation of ERA across sites;

• To conduct non-experimental analyses to explain participation decisions and provide a descriptive picture of the circumstances of low-wage workers;

• To obtain participation information important to the evaluation's benefit-cost component; and

• To obtain contact information for possible future follow-up, information that will be important to achieving high response rates for the 36-month survey.

Respondents: The respondents of the 12-month survey are Temporary Assistance for Needy Families (TANF) applicants, current and former TANF recipients, or individuals in families at-risk of needing TANF benefits (working poor and hard-to-employ) from eight states participating in the ERA Evaluation: California, Oregon, New York, Ohio, Minnesota, Illinois, South Carolina, and Texas. Survey respondents can be grouped according to three program clusters: advancement projects; placement and retention (hard-to-employ) projects; and mixed goal projects. All three program clusters will receive the 12-month core survey. The placement and retention (hard-to-employ) participants will also receive the hard-to-employ survey module. Survey participants will be administered a telephone survey (for those individuals who cannot be reached by phone, staff at the survey firm will attempt to contact them in person) approximately 12 months after random assignment. Approximately 6,250 participants will complete the core survey only and 1,800 participants will complete the core plus hard-to-employ module survey.

Annual Burden Estimates
Instrument | Number of respondents | Number of responses per respondent | Average burden hours per response | Total burden hours
12-Month Survey (Core Only) | 3,125 | 1 | 37 minutes or .6166 hours | 1,927.08
12-Month Survey (Core plus Hard-to-Employ Module) | 900 | 1 | 45 minutes or .75 hours | 675.00
Estimated Total Annual Burden Hours |  |  |  | 2,602.08

Additional Information

Copies of the proposed collection may be obtained by writing to the Administration for Children and Families, Office of Information Services, 370 L'Enfant Promenade, SW., Washington, DC 20447, Attn: ACF Reports Clearance Officer.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: July 24, 2002.
Robert Sargis,
Reports Clearance Officer.

[FR Doc. 02-19071 Filed 7-26-02; 8:45 am]

BILLING CODE 4184-01-M